DEPARTMENT OF COMMERCE

Foreign-Trade Zones Board

[Order No. 1851]

Grant of Authority; Establishment of a Foreign-Trade Zone Under the Alternative Site Framework; West Tennessee Area

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (74 FR 1170-1173, 01/12/2009; correction 74 FR 3987, 01/22/2009; 75 FR 71069-71070, 11/22/2010) as an option for the establishment or reorganization of general-purpose zones;

Whereas, the Northwest Tennessee Regional Port Authority (the Grantee) has made application to the Board (Docket 59-2011, filed 9/29/2011) requesting the establishment of a foreign-trade zone under the ASF with a service area of Dyer, Gibson, Haywood, Lake, Lauderdale, Madison, Obion and Tipton Counties, Tennessee, adjacent to the Memphis U.S. Customs and Border Protection port of entry, and proposed Sites 1, 2, 3, 4, 5, 6, 7, 8 (excluding 20 acres recommended for approval as Site 10) and 9 would be categorized as magnet sites and Site 10 would be categorized as a usage-driven site;

Whereas, notice inviting public comment has been given in the Federal Register (76 FR 61667-61668, 10/05/2011) and the application has been processed pursuant to the FTZ Act and the Board's regulations; and,

Whereas, the Board adopts the findings and recommendations of the examiner's report, and finds that the requirements of the FTZ Act and the Board's regulations are satisfied, and that the proposal is in the public interest;

Now, therefore, the Board hereby grants to the Grantee the privilege of establishing a foreign-trade zone, designated on the records as Foreign-Trade Zone No. 283, as described in the application and examiner's report, and subject to the FTZ Act and the Board's regulations, including Section 400.13, to the Board's standard 2,000-acre activation limit for the overall general-purpose zone, to an ASF sunset provision for magnet sites that would terminate authority for Sites 2, 3, 4, 6, 7, 8 and 9 if not activated within five years from the date of approval and for Site 5 if not activated within ten years from the date of approval, and to an ASF sunset provision for usage-driven sites that would terminate authority for Site 10 if no foreign-status merchandise is admitted for a bona fide customs purpose within three years from date of approval.

Signed at Washington, DC, this 11th day of October 2012.
Rebecca Blank,
Acting Secretary of Commerce, Chairman and Executive Officer,Foreign-Trade Zones Board.
Attest:
Elizabeth Whiteman,
Acting Executive Secretary.

[FR Doc. 2012-25976 Filed 10-19-12; 8:45 am]

BILLING CODE P